DEPARTMENT OF DEFENSE

Office of the Secretary

Department of Defense Wage Committee (DoDWC); Notice of Federal Advisory Committee Meetings

AGENCY: Under Secretary of Defense for Personnel and Readiness, Department of Defense (DoD).

ACTION: Notice of closed Federal Advisory Committee meetings.

SUMMARY: The DoD is publishing this notice to announce that the following Federal Advisory Committee meetings of the DoDWC will take place.

DATES:

Tuesday, May 3, 2022 from 10:00 a.m. to 11:30 a.m. and will be closed to the public.

Tuesday, May 17, 2022 from 10:00 a.m. to 12:30 p.m. and will be closed to the public.

Tuesday, May 31, 2022 from 10:00 a.m. to 10:30 a.m. and will be closed to the public.

Tuesday, June 14, 2022 from 10:00 a.m. to 12:00 p.m. and will be closed to the public.

Tuesday, June 28, 2022 from 10:00 a.m. to 12:00 p.m. and will be closed to the public.

Tuesday, July 12, 2022 from 10:00 a.m. to 11:30 a.m. and will be closed to the public.

Tuesday, July 26, 2022 from 10:00 a.m. to 12:00 p.m. and will be closed to the public.

ADDRESSES: The closed meetings will be held by teleconference.

FOR FURTHER INFORMATION CONTACT: Mr. Karl Fendt, (571) 372-1618 (voice), karl.h.fendt.civ@mail.mil (email), 4800 Mark Center Drive, Suite 05G21, Alexandria, Virginia 22350 (mailing address). Any agenda updates can be found at the DoDWC's official website: https://wageandsalary.dcpas.osd.mil/BWN/DODWC/.

SUPPLEMENTARY INFORMATION: Due to circumstances beyond the control of the Department of Defense and the Designated Federal Officer, the Department of Defense Wage Committee was unable to provide public notification required by 41 CFR 102-3.150(a) concerning its May 3, 2022 and May 17, 2022 meetings. Accordingly, the Advisory Committee Management Officer for the Department of Defense, pursuant to 41 CFR 102-3.150(b), waives the 15-calendar day notification requirement. These meetings are being held under the provisions of the Federal Advisory Committee Act (FACA) (5 U.S.C., Appendix), the Government in the Sunshine Act (5 U.S.C. 552b), and 41 CFR 102-3.140 and 102-3.150.

Purpose of the Meeting: The purpose of these meetings is to provide independent advice and recommendations on matters relating to the conduct of wage surveys and the establishment of wage schedules for all appropriated fund and non-appropriated fund areas of blue-collar employees within the Department of Defense.

Agendas

May 3, 2022

Opening Remarks by Chairperson.

Reviewing survey results and/or survey specifications for the following Nonappropriated Fund areas:

1. Any items needing further clarification or action from the previous agenda.

2. Survey Specifications for the Los Angeles, California wage area (AC-130).

3. Survey Specifications for the Orange, California wage area (AC-131).

4. Survey Specifications for the Ventura, California wage area (AC-132).

5. Survey Specifications for the Riverside, California wage area (AC-133).

6. Survey Specifications for the San Bernardino, California wage area (AC-134).

7. Survey Specifications for the Santa Barbara, California wage area (AC-135).

8. Survey Specifications for the Guam wage area (AC-150).

Reviewing survey results and/or survey specifications for the following Appropriated Fund areas:

9. Wage Schedule (Full Scale) for the Reno, Nevada wage area (AC-086).

10. Wage Schedule (Full Scale) for the Houston-Galveston-Texas City, Texas wage area (AC-133).

11. Wage Schedule (Wage Change) for the Phoenix, Arizona wage area (AC-009).

12. Wage Schedule (Wage Change) for the Tucson, Arizona wage area (AC-010).

13. Wage Schedule (Wage Change) for the Minneapolis-St. Paul, Minnesota wage area (AC-075).

14. Survey Specifications for the Cedar Rapids-Iowa City, Iowa wage area (AC-052).

15. Survey Specifications for the Madison, Wisconsin wage area (AC-147).

16. Any items needing further clarification from this agenda may be discussed during future scheduled meetings.

Closing Remarks by Chairperson.

May 17, 2022

Opening Remarks by Chairperson.

Reviewing survey results and/or survey specifications for the following Nonappropriated Fund areas:

1. Any items needing further clarification or action from the previous agenda.

2. Wage Schedule (Full Scale) for the Calhoun, Alabama wage area (AC-104).

3. Wage Schedule (Full Scale) for the Madison, Alabama wage area (AC-105).

4. Wage Schedule (Full Scale) for the Lake, Illinois wage area (AC-145).

5. Wage Schedule (Full Scale) for the Douglas-Sarpy, Nevada wage area (AC-149).

6. Wage Schedule (Full Scale) for the Leavenworth, Kansas/Jackson-Johnson, Missouri wage area (AC-151).

7. Wage Schedule (Full Scale) for the St. Clair, Illinois wage area (AC-157).

8. Wage Schedule (Wage Change) for the Richmond, Georgia wage area (AC-035).

9. Wage Schedule (Wage Change) for the Houston, Georgia wage area (AC-036).

10. Wage Schedule (Wage Change) for the Pulaski, Arkansas wage area (AC-045).

11. Wage Schedule (Wage Change) for the Montgomery, Alabama wage area (AC-048).

12. Wage Schedule (Wage Change) for the Sedgwick, Kansas wage area (AC-078).

13. Wage Schedule (Wage Change) for the Montgomery-Greene, Ohio wage area (AC-166).

Reviewing survey results and/or survey specifications for the following Appropriated Fund areas:

14. Wage Schedule (Full Scale) for the Syracuse-Utica-Rome, New York wage area (AC-097).

15. Wage Schedule (Full Scale) for the North Dakota wage area (AC-103).

16. Wage Schedule (Wage Change) for the Northeastern Arizona wage area (AC-008).

17. Wage Schedule (Wage Change) for the Albany-Schenectady-Troy, New York wage area (AC-091).

18. Wage Schedule (Wage Change) for the Northern New York wage area (AC-095).

19. Wage Schedule (Wage Change) for the West Virginia wage area (AC-146).

20. Survey Specifications for the Little Rock, Arkansas wage area (AC-011).

21. Survey Specifications for the Boston, Massachusetts wage area (AC-068).

22. Survey Specifications for the Portland, Oregon wage area (AC-112).

23. Survey Specifications for the Wichita Falls, Texas-Southwestern Oregon wage area (AC-138).

24. Special Pay—Pacific Northwest Power Rate (AC-A801).

25. Any items needing further clarification from this agenda may be discussed during future scheduled meetings.

Closing Remarks by Chairperson.

May 31, 2022

Opening Remarks by Chairperson.

Reviewing survey results and/or survey specifications for the following Nonappropriated Fund areas:

1. Any items needing further clarification or action from the previous agenda.

2. Survey Specifications for the Maricopa, Arizona wage area (AC-012).

3. Any items needing further clarification from this agenda may be discussed during future scheduled meetings.

Closing Remarks by Chairperson.

June 14, 2022

Opening Remarks by Chairperson.

Reviewing survey results and/or survey specifications for the following Nonappropriated Fund areas:

1. Any items needing further clarification or action from the previous agenda.

2. Survey Specifications for the Pima, Arizona wage area (AC-013).

3. Survey Specifications for the Yuma, Arizona wage area (AC-055).

4. Survey Specifications for the Kings-Queens, New York wage area (AC-091).

Reviewing survey results and/or survey specifications for the following Appropriated Fund areas:

5. Wage Schedule (Full Scale) for the Anniston-Gadsden, Alabama wage area (AC-001).

6. Wage Schedule (Full Scale) for the Huntsville, Alabama wage area (AC-004).

7. Wage Schedule (Full Scale) for the Tampa-St. Petersburg, Florida wage area (AC-035).

8. Wage Schedule (Full Scale) for the Lake Charles-Alexandria, Louisiana wage area (AC-060).

9. Wage Schedule (Full Scale) for the El Paso, Texas wage area (AC-132).

10. Wage Schedule (Wage Change) for the New Haven-Hartford, Connecticut wage area (AC-024).

11. Wage Schedule (Wage Change) for the Albuquerque, New Mexico wage area (AC-089).

12. Wage Schedule (Wage Change) for the Cleveland, Ohio wage area (AC-105).

13. Survey Specifications for the Los Angeles, California wage area (AC-013).

14. Survey Specifications for the Santa Barbara, California wage area (AC-019).

15. Survey Specifications for the New London, Connecticut wage area (AC-025).

16. Survey Specifications for the Panama City, Florida wage area (AC-033).

17. Survey Specifications for the Las Vegas, Nevada wage area (AC-085).

18. Any items needing further clarification from this agenda may be discussed during future scheduled meetings.

Closing Remarks by Chairperson.

June 28, 2022

Opening Remarks by Chairperson.

Reviewing survey results and/or survey specifications for the following Nonappropriated Fund areas:

1. Any items needing further clarification or action from the previous agenda.

2. Wage Schedule (Full Scale) for the Cumberland, Pennsylvania wage area (AC-092).

3. Wage Schedule (Full Scale) for the York, Pennsylvania wage area (AC-093).

4. Wage Schedule (Full Scale) for the Honolulu, Hawaii wage area (AC-106).

5. Wage Schedule (Full Scale) for the Norfolk-Portsmouth-Virginia Beach, Virginia wage area (AC-111).

6. Wage Schedule (Full Scale) for the Hampton-Newport News, Virginia wage area (AC-112).

7. Wage Schedule (Full Scale) for the Harford, Maryland wage area (AC-148).

8. Wage Schedule (Wage Change) for the McLennan, Texas wage area (AC-022).

9. Wage Schedule (Wage Change) for the Allegheny, Pennsylvania wage area (AC-066).

10. Wage Schedule (Wage Change) for the Jefferson, New York wage area (AC-101).

11. Wage Schedule (Wage Change) for the Orange, New York wage area (AC-103).

12. Wage Schedule (Wage Change) for the Macomb, Michigan wage area (AC-162).

13. Wage Schedule (Wage Change) for the Niagara, New York wage area (AC-163).

Reviewing survey results and/or survey specifications for the following Appropriated Fund areas:

14. Wage Schedule (Wage Change) for the Texarkana, Texas wage area (AC-136).

15. Survey Specifications for the San Bernardino-Riverside-Ontario, California wage area (AC-016).

16. Survey Specifications for the Chicago, Illinois wage area (AC-047).

17. Survey Specifications for the Portsmouth, New Hampshire wage area (AC-087).

18. Survey Specifications for the Seattle-Everett-Tacoma, Washington wage area (AC-143).

19. Special Pay—Washington, District of Columbia TV Systems (AC-B027).

20. Special Pay—Washington, District of Columbia Electronic Equipment Maker (AC-A027).

21. Any items needing further clarification from this agenda may be discussed during future scheduled meetings.

Closing Remarks by Chairperson.

July 12, 2022

Opening Remarks by Chairperson.

Reviewing survey results and/or survey specifications for the following Appropriated Fund areas:

1. Any items needing further clarification or action from the previous agenda.

2. Wage Schedule (Full Scale) for the Shreveport, Louisiana wage area (AC-062).

3. Wage Schedule (Full Scale) for the Augusta, Maine wage area (AC-063).

4. Wage Schedule (Full Scale) for the Central North Carolina wage area (AC-099).

5. Wage Schedule (Full Scale) for the Norfolk-Portsmouth-Newport News-Hampton, Virginia wage area (AC-140).

6. Wage Schedule (Wage Change) for the Atlanta, Georgia wage area (AC-037).

7. Wage Schedule (Wage Change) for the Western Texas wage area (AC-127).

8. Wage Schedule (Wage Change) for the Waco, Texas wage area (AC-137).

9. Survey Specifications for the Fort Wayne-Marion, Indiana wage area (AC-049).

10. Survey Specifications for the St. Louis, Missouri wage area (AC-081).

11. Survey Specifications for the Omaha, Nebraska wage area (AC-084).

12. Survey Specifications for the Dallas-Fort Worth, Texas wage area (AC-131).

13. Special Pay—Western Texas Special Rate (AC-A127).

14. Any items needing further clarification from this agenda may be discussed during future scheduled meetings.

Closing Remarks by Chairperson.

July 26, 2022

Opening Remarks by Chairperson.

Reviewing survey results and/or survey specifications for the following Nonappropriated Fund areas:

1. Any items needing further clarification or action from the previous agenda.

2. Wage Schedule (Full Scale) for the Pennington, South Dakota wage area (AC-086).

3. Wage Schedule (Full Scale) for the Nueces, Texas wage area (AC-115).

4. Wage Schedule (Full Scale) for the Bexar, Texas wage area (AC-117).

5. Wage Schedule (Full Scale) for the Anchorage, Alaska wage area (AC-118).

6. Wage Schedule (Full Scale) for the Kitsap, Washington wage area (AC-142).

7. Wage Schedule (Full Scale) for the Dallas, Texas wage area (AC-152).

8. Wage Schedule (Full Scale) for the Tarrant, Texas wage area (AC-156).

9. Wage Schedule (Wage Change) for the Orleans, Louisiana wage area (AC-006).

10. Wage Schedule (Wage Change) for the Bell, Texas wage area (AC-028).

11. Wage Schedule (Wage Change) for the Curry, New Mexico wage area (AC-030).

12. Wage Schedule (Wage Change) for the Tom Green, Texas wage area (AC-032).

13. Wage Schedule (Wage Change) for the Cobb, Georgia wage area (AC-034).

14. Wage Schedule (Wage Change) for the Columbus, Georgia wage area (AC-067).

Reviewing survey results and/or survey specifications for the following Appropriated Fund areas:

15. Wage Schedule (Full Scale) for the Columbia, South Carolina wage area (AC-120).

16. Wage Schedule (Wage Change) for the Savannah, Georgia wage area (AC-042).

17. Survey Specifications for the Bloomington-Bedford-Washington, Indiana wage area (AC-048).

18. Survey Specifications for the Indianapolis, Indiana wage area (AC-050).

19. Survey Specifications for the Kansas City, Missouri wage area (AC-080).

20. Survey Specifications for the Southern Missouri wage area (AC-082).

21. Any items needing further clarification from this agenda may be discussed during future scheduled meetings.

Closing Remarks by Chairperson.

Meeting Accessibility: Pursuant to 5 U.S.C. 552b(c)(4), the Department of Defense has determined that the meetings shall be closed to the public. The Under Secretary of Defense for Personnel and Readiness, in consultation with the Department of Defense Office of General Counsel, has determined in writing that each of these meetings is likely to disclose trade secrets and commercial or financial information obtained from a person and privileged or confidential.

Written Statements: Pursuant to section 10(a)(3) of the Federal Advisory Committee Act and 41 CFR 102-3.140, interested persons may submit written statements to the Designated Federal Officer for the DoDWC at any time. Written statements should be submitted to the Designated Federal Officer at the email or mailing address listed in the FOR FURTHER INFORMATION CONTACT section. If statements pertain to a specific topic being discussed at a planned meeting, then these statements must be submitted no later than five (5) business days prior to the meeting in question. Written statements received after this date may not be provided to or considered by the DoDWC until its next meeting. The Designated Federal Officer will review all timely submitted written statements and provide copies to all the committee members before the meeting that is the subject of this notice.

Dated: May 5, 2022.
Aaron T. Siegel,
Alternate OSD Federal Register Liaison Officer, Department of Defense.

[FR Doc. 2022-10132 Filed 5-11-22; 8:45 am]

BILLING CODE 5001-06-P